DEPARTMENT OF ENERGY

Federal Energy Regulatory Commission

[Docket No. RP96-359-012]

Transcontinental Gas Pipe Line Corporation; Notice of Negotiated Rates

November 6, 2002.

Take notice that on October 31, 2002, Transcontinental Gas Pipe Line Corporation (Transco) tendered for filing a copy of an executed service agreement between Transco and PSEG Energy Resources and Trade, LLC, that contains a negotiated rate under Rate Schedule FT applicable to the Leidy East Expansion Project.

Transco states that this service agreement is the result of the permanent release of a previously filed Leidy East Expansion Project service agreement containing a negotiated rate. Williams Energy Marketing & Trading Company (WEM&T), a Leidy East Expansion Project Customer, agreed to permanently release 50,000 dekatherms of gas per day of its firm Leidy East transportation service to PSEG Energy Resources and Trade, LLC, effective November 1, 2002, at the same negotiated rate and primary term contained in the WEM&T service agreement included in Transco's October 10, 2002 and October 24, 2002 filings in Docket No. RP96-359-010 and Docket No. RP96-359-011, respectively. This permanent release of Leidy East capacity was effectuated pursuant to Section 42.14 of the General Terms and Conditions of Transco's FERC Gas Tariff. The effective date of the permanent release is November 1, 2002, which is the in-service date of the Leidy East Expansion Project.

Transco states that copies of the filing are being mailed to its affected customers and interested State Commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Magalie R. Salas,
Secretary.

[FR Doc. 02-28789 Filed 11-12-02; 8:45 am]

BILLING CODE 6717-01-P